ENVIRONMENTAL PROTECTION AGENCY

[FRL-11454-01-OMS]

Good Neighbor Environmental Board

AGENCY: Environmental Protection Agency (EPA).

ACTION: Notice of meeting.

SUMMARY: Under the Federal Advisory Committee Act, the Environmental Protection Agency (EPA) gives notice of a public meeting of the Good Neighbor Environmental Board (GNEB). The purpose of this meeting is for the board to discuss and approve the final integrated draft of its 20th comprehensive report on water and wastewater infrastructure issues and challenges along the U.S.-Mexico border region.

DATES: November 6, 2023, from 1 p.m.-5 p.m. (EDT). A copy of the agenda will be posted at www.epa.gov/faca/gneb.

The meeting will be held virtually and in-person at the U.S. Environmental Protection Agency (EPA) headquarters located at 1200 Pennsylvania Avenue NW, Washington, DC 20460. The meeting is open to the public with limited access available on a first-come, first-served basis. Members of the public wishing to participate should contact Eugene Green at green.eugene@epa.gov by October 30th.

Requests to make oral comments or submit written public comments to the board, should also be directed to Eugene Green at least five business days prior to the meeting. Requests for accessibility and/or accommodations for individuals with disabilities should be directed to Eugene Green at the phone number or email address listed below. To ensure adequate time for processing, please make requests for accommodations at least 10 days prior to the meeting.

FOR FURTHER INFORMATION CONTACT: Regarding the GNEB meeting, please contact Eugene Green at (202) 564-2432 or via email at green.eugene@epa.gov.

SUPPLEMENTARY INFORMATION: The GNEB is an independent federal advisory committee chartered under the Federal Advisory Committee Act, Public Law 92-463. Its mission is to advise the President and Congress of the United States on good neighbor practices along the U.S. border with Mexico. Its recommendations are focused on environmental infrastructure needs within the U.S. states contiguous to Mexico.

Eugene Green,
Program Analyst.

[FR Doc. 2023-23125 Filed 10-19-23; 8:45 am]

BILLING CODE 6560-50-P